DEPARTMENT OF HEALTH AND HUMAN SERVICES

Administration for Children and Families

Proposed Information Collection Activity; Comment Request

Title: Home Visiting: Approaches to Father Engagement and Father's Experiences.

OMB No.: New Collection.

Description: The Office of Planning, Research, and Evaluation (OPRE) in the Administration for Children and Families (ACF) is proposing an information collection activity for the Home Visiting: Approaches to Father Engagement and Father's Experiences Study.

This study will document strategies used by home visiting programs to engage and serve fathers and the perceptions of the fathers regarding the programs. The findings will be of broad interest to many home visiting programs that desire to increase the active engagement of fathers.

Data collection will involve semi-structured discussions and interviews with administrators and managers of select home visiting programs as well as staff about the objectives, experiences, and specific methods and approaches used by program operators that have successfully engaged fathers.

Data collection will also include semi-structured discussions and interviews with invited and/or participating fathers about their expectations, perceptions, and opinions of the home visiting program and experiences with the program.

Respondents: Administrators and managers of select home visiting programs, home visiting staff, and participating and invited fathers.

ANNUAL BURDEN ESTIMATES
Instrument | Total number of respondents | Annual number of respondents | Number of responses per respondent | Average burden hours per response | Annual burden hours
Discussion Guide for use with Fathers | 250 | 83 | 1 | 2 | 166
Discussion Guide for use with Home Visiting Program Administrators, Managers, and Staff | 50 | 17 | 1 | 2 | 34

Estimated Total Annual Burden Hours: 200.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer, Administration for Children and Families.

[FR Doc. 2013-19337 Filed 8-8-13; 8:45 am]

BILLING CODE 4184-35-P